DEPARTMENT OF STATE

[Public Notice 3741]

Notice of Meetings; United States International Telecommunication Advisory Committee, Telecommunication Standardization (ITAC-T) US Study Group B

The Department of State announces a meeting of a U.S. International Telecommunication Advisory Committee. The purpose of the Committee is to advise the Department on policy and technical issues with respect to the International Telecommunication Union (ITU).

US Study Group B will meet from 9:30 to 4 at the Department of Commerce, Room B841B, 1401 Constitution Ave, NW, Washington, DC 20230 on Tuesday September 25, 2001 to prepare for ITU-T Study Group 15 meeting of October 2001.

Members of the general public may attend this meeting. Directions to meeting location and actual room assignments may be determined by calling the Secretariat at 202 647-0965/2592. Entrance to the building is controlled; people intending to attend this meeting should send an e-mail to mgeissinger@QWEST.NET no later than 48 hours before the meeting for preclearance. This e-mail should display the name of the meeting and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: August 24, 2001.
Frank K. Williams,
Vice Chairman US WRC 2000 Del, Department of State.

[FR Doc. 01-22260 Filed 9-4-01; 8:45 am]

BILLING CODE 4710-45-P